SMALL BUSINESS ADMINISTRATION

[Declaration of Disaster #3565]

State of California

Orange County and the contiguous counties of Los Angeles, Riverside, San Bernardino and San Diego in the State of California constitute a disaster area as a result of an apartment fire on December 2, 2003. Applications for loans for physical damage as a result of this disaster may be filed until the close of business on April 5, 2004 and for economic injury until the close of business on November 5, 2004 at the address listed below or other locally announced locations:

U.S. Small Business Administration, Disaster Area 4 Office, PO Box 419004, Sacramento, CA 95841-9004.

The interest rates are:

For Physical Damage:

Homeowners With Credit Available Elsewhere—6.250%.

Homeowners Without Credit Available Elsewhere—3.125%.

Businesses With Credit Available Elsewhere—6.123%.

Businesses and Non-Profit Organizations Without Credit Available Elsewhere—3.061%.

Others (Including Non-Profit Organizations) with Credit Available Elsewhere—4.875%.

For Economic Injury:

Businesses and Small Agricultural Cooperatives Without Credit Available Elsewhere—3.061%.

The number assigned to this disaster for physical damage is 356505 and for economic damage is 9Z2500.

(Catalog of Federal Domestic Assistance Program Nos. 59002 and 59008.)
Dated: February 5, 2004.
Hector V. Barreto,
Administrator.

[FR Doc. 04-3031 Filed 2-11-04; 8:45 am]

BILLING CODE 8025-01-P